ENVIRONMENTAL PROTECTION AGENCY

[FRL-10010-92-Region 5]

Clean Air Act Operating Permit Program; Petition for Objection to State Operating Permit for Riverview Energy Corporation; Petition for Objection to State Operating Permit for ESSROC Cement Corporation

AGENCY: Environmental Protection Agency (EPA).

ACTION: Notice of final orders on petitions for objection to two Clean Air Act title V operating permits.

SUMMARY: The Environmental Protection Agency (EPA) Administrator signed an Order dated March 26, 2020, denying a Petition dated August 6, 2019 from Southwestern Indiana Citizens for Quality of Life, Inc. and Valley Watch, Inc. The Petition requested that EPA object to a Clean Air Act (CAA) title V operating permit issued by the Indiana Department of Environmental Management (IDEM) to Riverview Energy Corporation for its direct coal hydrogenation facility located in Dale, Spencer County, Indiana. The EPA Administrator also signed an Order dated April 1, 2020, denying a Petition dated January 4, 2017 from Vicki L. Whittinghill. The Petition requested that EPA object to a CAA title V operating permit issued by IDEM to ESSROC Cement Corporation for its Portland cement manufacturing plant located in Clark County, Indiana.

ADDRESSES: The final Orders, the Petitions, and other supporting information are available for public inspection during normal business hours at the following address: U.S. Environmental Protection Agency, Region 5, Air and Radiation Division, 77 West Jackson Boulevard, Chicago, Illinois 60604. This facility is open from 8:30 a.m. to 4:30 p.m., Monday through Friday, excluding Federal holidays and facility closures due to COVID-19. We recommend that you telephone Michael Langman, Environmental Scientist, at (312) 886-6867 before visiting the Region 5 office. Additionally, the final Orders and Petitions are available electronically at: https://www.epa.gov/title-v-operating-permits/title-v-petition-database.

FOR FURTHER INFORMATION CONTACT: Michael Langman, Environmental Scientist, Air Permits Section, Air Programs Branch (AR-18J), Environmental Protection Agency, Region 5, 77 West Jackson Boulevard, Chicago, Illinois 60604, (312) 886-6867, langman.michael@epa.gov.

SUPPLEMENTARY INFORMATION: The CAA affords EPA a 45-day period to review and object to, as appropriate, operating permits proposed by state permitting authorities under title V of the CAA. Section 505(b)(2) of the CAA authorizes any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or unless the grounds for the issues arose after this period.

Riverview Energy Corporation

EPA received the Petition from Southwestern Citizens for Quality of Life, Inc. and Valley Watch, Inc., dated August 6, 2019, requesting that EPA object to the issuance of operating permit no. 147-39554-00065 issued by IDEM to Riverview Energy Corporation in Dale, Spencer County, Indiana. The Petition alleged that the permit does not correct issues identified in EPA Region 5's comments on the draft permit, that IDEM issued the permit without sufficient information to evaluate the source's air pollution consequences, that the permit is based on deficient and incorrect emissions calculations that preclude accurate modeling results, that the permit's air quality modeling is deficient and inaccurate, that the permit does not require best available control technology for certain regulated pollutants, that flaring monitoring and reporting requirements do not comply with title V requirements, and that the permit violated public participation requirements.

On March 26, 2020, the EPA Administrator issued an Order denying the Petition. The Order explains the basis for EPA's decision.

ESSROC Cement Corporation

EPA received the Petition from Vicki L. Whittinghill dated January 4, 2017, requesting that EPA object to the issuance of operating permit no. 019-35535-00008, issued by IDEM to ESSROC Cement Corporation in Clark County, Indiana. The Petition presented concerns regarding the use of liquid waste derived fuel in the combustion zone of the facility's cement kiln.

On April 1, 2020, the EPA Administrator issued an Order denying the Petition. The Order explains the basis for EPA's decision.

Sections 307(b) and 505(b)(2) of the CAA provide that a petitioner may request judicial review of those portions of an order that deny issues in a petition. Any petition for review shall be filed in the United States Court of Appeals for the appropriate circuit no later than August 24, 2020.

Authority: 42 U.S.C. 7401 et seq.

Dated: June 18, 2020.
Kurt Thiede,
Regional Administrator, Region 5.

[FR Doc. 2020-13634 Filed 6-23-20; 8:45 am]

BILLING CODE 6560-50-P